ENVIRONMENTAL PROTECTION AGENCY

40 CFR Part 52

[FRL-6886-7]

Supplemental Information to Support Proposed Approvals of One-Hour Ozone Attainment Demonstrations for Serious Ozone Nonattainment Areas

AGENCY: Environmental Protection Agency (EPA).

ACTION: Notice of availability and reopening of comment period.

SUMMARY: Notice is hereby given that EPA has performed an analysis to evaluate emission levels of oxides of nitrogen ( NOX) and volatile organic compounds (VOC) and their relationships to the application of current and anticipated control measures expected to be implemented in four serious one-hour ozone nonattainment areas. This analysis was done to determine if additional reasonably available control measures (RACM) are available after adoption of Clean Air Act (Act) required measures for the following serious ozone nonattainment areas: Greater Connecticut, New York-New Jersey-Connecticut; Springfield, Massachusetts; Washington, D.C.-Virginia-Maryland; and Atlanta, Georgia. The EPA performed this analysis in response to comments that were submitted on the proposals on these areas' one-hour ozone attainment demonstrations. The EPA took action to propose approval (and disapproval in the alternative) of these areas' State implementation plans (SIPs) on December 16, 1999 (Greater Connecticut (64 FR 70332); Springfield (64 FR 70319); Metropolitan Washington (64 FR 70460); and Atlanta (64 FR 70478)). This information supplements the December 16, 1999 proposals.

DATES: The EPA is establishing a comment period, ending on October 31, 2000. All comments should be sent to the appropriate regional office as listed in the ADDRESSES section by that date.

ADDRESSES: Written comments on the Greater Connecticut and Springfield SIPs should be sent (in duplicate if possible) to: David B. Conroy, EPA Region I (New England) Office, One Congress Street, Suite 1100-CAQ, Boston, Massachusetts 02114-2023. Copies of the Connecticut and Massachusetts State submittals and EPA's technical support document are available for public inspection during normal business hours at the following address: U.S. Environmental Protection Agency, Region 1 (New England), One Congress St., 11th Floor, Boston, Massachusetts, telephone (617) 918-1664. Please telephone in advance before visiting.

Written comments on the Washington, D.C.-Virginia-Maryland submittals should be submitted (in duplicate if possible) to: David L. Arnold, Chief, Ozone and Mobile Sources Branch, Mailcode 3AP21, U.S. Environmental Protection Agency, Region 3, 1650 Arch Street, Philadelphia, Pennsylvania 19103. Copies of the documents relevant to this action are available for public inspection during normal business hours at the following address: Air Protection Division, U.S. Environmental Protection Agency, Region III, 1650 Arch Street, Philadelphia, Pennsylvania 19103, and the docket numbers are DC039-2019, VA090-5036 and MD073-3045.

Written comments on the Atlanta SIP should be submitted (in duplicate if possible) to: Scott M. Martin, EPA Region 4, Air Planning Branch, 61 Forsyth Street, S.W., Atlanta, Georgia 30303. Copies of the State submittal are available at the following address for inspection during normal business hours: Environmental Protection Agency, Region 4, Air Planning Branch, 61 Forsyth Street, S.W., Atlanta, Georgia 30303-8960, and the docket number is GA-47-200002.

FOR FURTHER INFORMATION CONTACT: For general questions on the RACM analysis for mobile sources, contact Mr. Mark Simons at either 734-214-4420 or by e-mail simons.mark@epa.gov. For general questions on the RACM analysis for stationary sources, contact Mr. John Silvasi at either (919) 541-5666 or by e-mail silvasi.john@epa.gov. For specific questions on the Greater Connecticut and Springfield SIPs, contact Mr. Richard Burkhart at (617) 918-1664 or by e-mail burkhart.richard@epa.gov. For specific questions on the Washington, D.C., SIP, contact Mr. David Arnold at (215) 814-2172 or by e-mail arnold.dave@epa.gov. For specific questions on the Atlanta SIP, contact Mr. Scott Martin at (404) 562-9036 or by e-mail martin.scott@epa.gov.

SUPPLEMENTARY INFORMATION: Section 172(c)(1) of the Act requires SIPs to contain reasonably available control measures (RACM) as necessary to provide for attainment as expeditiously as practicable. Several commenters have stated that there is no evidence in the four serious ozone attainment demonstrations that were proposed on December 16, 1999 that they have adopted all RACM, and a commenter further stated that the mobile source emission budgets in the SIPs are inadequate by definition because the SIPs do not demonstrate timely attainment or contain the emission reductions required for all RACM. In addition, some commenters stated that for all potential RACM measures not adopted into the SIP, the State must provide a justification for why they were determined not to be RACM.

The analysis EPA conducted demonstrates that a number of possible emission control measures have been evaluated for their emission reductions. It further demonstrates that the measures evaluated either (a) are likely to require an intensive and costly effort for numerous small area sources, or (b) do not advance the attainment dates for the four areas, and therefore would not be considered RACM under the Act.

EPA has previously provided guidance interpreting the RACM requirements of 172(c)(1). See 57 FR 13498, 13560. In that guidance, EPA indicated its interpretation that potentially available measures that would not advance the attainment date for an area would not be considered RACM. EPA concluded that a measure would not be reasonably available if it would not advance attainment. EPA also indicated in that guidance that States should consider all potentially available measures to determine whether they were reasonably available for implementation in the area, and whether they would advance the attainment date. Further, States should indicate in their SIP submittals whether measures considered were reasonably available or not, and if measures are reasonably available they must be adopted as RACM. Finally, EPA indicated that States could reject potential RACM measures either because they would not advance the attainment date, would cause substantial widespread and long-term adverse impacts, or for various reasons related to local conditions, such as economics or implementation concerns. The EPA also issued a recent memorandum on this topic, “Guidance on the Reasonably Available Control Measures (RACM) Requirement and Attainment Demonstration Submissions for Ozone Nonattainment Areas.” John S. Seitz, Director, Office of Air Quality Planning and Standards, dated November 30, 1999. A copy can be obtained from www.epa.gov/ttn/oarpg/t1pgm.html.

In response to public comments received on the proposed rulemakings in December, EPA has reviewed the SIP submittals for the four serious areas and determined that they did not include sufficient documentation concerning available RACM measures. Therefore, EPA has itself reviewed numerous potential RACM measures, as documented in the available analysis. Based on this analysis, EPA concluded that these measures would either (a) likely require an intensive and costly effort for numerous small area sources, or (b) not advance the attainment date in any of the four areas and, therefore, would not be considered RACM.

Although EPA encourages areas to implement available RACM measures as potentially cost effective methods to achieve emissions reductions in the short term, EPA does not believe that section 172(c)(1) requires implementation of potential RACM measures that either require costly implementation efforts or produce relatively small emissions reductions that will not be sufficient to allow any of the four areas to achieve attainment in advance of full implementation of all other required measures.

Electronic Availability—An electronic version of EPA's RACM analysis can be downloaded at www.epa.gov/ttn/rto under “What's New.”

For those persons without electronic capability, a copy of this analysis may be obtained from Ms. Linda Lassiter at (919) 541-5526.

The official record for these proposed actions have been established under individual dockets which are located at the Regional office address in the ADDRESSES section at the beginning of this document. Electronic comments must be submitted as an ASCII file avoiding the use of special characters and any form of encryption. Comments and data will also be accepted on disks in WordPerfect file format or ASCII file format. All comments and data in electronic form must be identified by the docket number associated with the individual state proposal.

Dated: October 10, 2000.
Henry C. Thomas,
Acting Director, Office of Air Quality Planning and Standards.

[FR Doc. 00-26612 Filed 10-13-00; 8:45 am]

BILLING CODE 6560-50-P